DEPARTMENT OF DEFENSE

Department of the Air Force

Local Redevelopment Authority and Available Surplus Buildings and Land at General Mitchell Air Reserve, Milwaukee, WI

AGENCY: Department of the Air Force, DoD.

ACTION: Notice.

SUMMARY: This notice provides information regarding the surplus property at General Mitchell Air Reserve in Milwaukee, Wisconsin.

FOR FURTHER INFORMATION CONTACT: Contact Mr. Thomas B. Kempster, Special Assistant, Air Force Real Property Agency, 1700 North Moore Street, Suite 2300, Arlington, VA 22209-2802, telephone (703) 696-5532.

SUPPLEMENTARY INFORMATION: This surplus property is available under the provisions of the Federal Property and Administrative Services Act of 1949 as amended (40 U.S.C. 501 et. seq.) and the Base Closure Community Redevelopment and Assistance Act of 1994.

Notice of Surplus Property: Pursuant to paragraph (7)(B) of section 2905(b) of the Defense Base Closure and Realignment Act of 1990, as amended by the Base Closure Community Redevelopment and Homeless Assistance Act of 1994 (Pub. L. 103-421), the following information regarding the surplus property described herein.

Surplus Property Description: Land: The property consists of 102 acres of land. Buildings/Structures: 85 buildings containing 294,137 sq ft. Majority of space is used for maintenance, production and warehousing comprising a total of 224,795 square feet. The fire training facility and access to that facility is not available for transfer.

Expressions Of Interest: Pursuant to paragraph 7(C) of Section 2905(b) of the Defense Base Closure and Realignment Act of 1990, as amended by the Base Closure and Community Redevelopment and Homeless Assistance Act of 1994, state and local governments, representatives of the homeless, and other interested parties located in the vicinity of General Mitchell Air Reserve Station, Milwaukee, WI shall submit to Mr. Thomas B. Kempster, Special Assistant, Air Force Real Property Agency, 1700 North Moore Street, Suite 2300, Arlington, VA 22209-2802, a notice of interest, of such governments, representatives, and parties in the above described surplus property, or any portion thereof. A notice shall describe the need of the government, representative, or party concerned, for the desired surplus property. The date by which expressions of interest must be submitted shall be ninety (90) days from the date of publication of this notice.

Bao-anh Trinh,
Air Force Federal Register Liaison Officer.

[FR Doc. E6-8231 Filed 5-26-06; 8:45 am]

BILLING CODE 5001-04-P